DEPARTMENT OF DEFENSE

Department of the Navy

32 CFR Part 734

[Docket ID: USN-2017-HQ-0007]

RIN 0703-AA97

Garnishment of Pay of Naval Military and Civilian Personnel for Collection of Child Support and Alimony

AGENCY: Department of the Navy, DoD.

ACTION: Final rule.

SUMMARY: This final rule removes the DoD's regulation concerning garnishment of pay of Naval military and civilian personnel and collection of child support and alimony. It has been determined that this rule is duplicative of 5 CFR part 581, “Processing Garnishment Orders for Child Support and/or Alimony.” Therefore, this rule can be removed from the CFR.

DATES: This rule is effective on April 16, 2018.

FOR FURTHER INFORMATION CONTACT: CDR Amanda Myers, 703-697-1311.

SUPPLEMENTARY INFORMATION: It has been determined that publication of this CFR part removal for public comment is impracticable, unnecessary, and contrary to public interest since it is based on removing a duplicative CFR part.

Both 5 CFR part 581 and 32 CFR part 734 derive their authority from 42 U.S.C. 659, and 5 CFR part 581 encompasses entirely the language found in 32 CFR part 734. Furthermore, 5 CFR part 581 is a more thorough regulation; for example, 5 CFR part 581 contains a definitions section and a provision identifying which moneys are subject to garnishment.

Garnishment operations and their underlying processes will remain unaffected by this regulatory action. In addition, no requirement for paperwork or procedures are set forth in 32 CFR part 734 that are not covered in 5 CFR part 581.

This rule is not significant under Executive Order (E.O.) 12866, “Regulatory Planning and Review,” therefore, E.O. 13771, “Reducing Regulation and Controlling Regulatory Costs” does not apply.

List of Subjects in 32 CFR Part 734

Alimony, Child support, Claims, Military personnel, Wages.

PART 734—[REMOVED]

Accordingly, by the authority of 5 U.S.C. 301, 32 CFR part 734 is removed.

Dated: April 6, 2018.
E.K. Baldini,
Lieutenant Commander, Judge Advocate General's Corps, U.S. Navy, Federal Register Liaison Officer.

[FR Doc. 2018-07759 Filed 4-13-18; 8:45 am]

BILLING CODE 3810-FF-P